FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (www.fmc.gov) or contacting the Office of Agreements (202) 523-5793 or tradeanalysis@fmc.gov).

Agreement No.: 008455-002.

Title: South Atlantic Marine Terminal Conference Agreement.

Parties: Canaveral Port Authority; Georgia Ports Authority; Jacksonville Port Authority; North Carolina State Port Authority; Port Everglades Department of Broward County; Port of Miami; Port of Palm Beach District; South Carolina State Ports Authority; Virginia International Terminals; and Virginia Port Authority.

Filing Party: Warren L. Dean, Esq.; Thompson Coburn, LLP; 1909 K Street, NW., Suite 600; Washington, DC 20006-1167.

Synopsis: The amendment updates and restates the agreement.

Agreement No.: 201192.

Title: South Florida Container Terminal Cooperative Working Agreement.

Parties: A.P. Moller-Maersk A/S; CMA CGM S.A.; South Florida Container Terminal, LLC; Terminal Link USA, Inc.; and Universal Maritime Services Corp.

Filing Party: Wayne R. Rohde, Esq.; Sher & Blackwell, LLP; 1850 M Street, NW., Suite 900; Washington, DC 20036.

Synopsis: The agreement would authorize the parties to form a joint venture limited liability company that will be providing terminal services at the Port of Miami, FL.

By order of the Federal Maritime Commission.
Dated: August 8, 2008.
Tanga S. FitzGibbon,
Alternate Federal Register Liaison Officer.

[FR Doc. E8-18767 Filed 8-12-08; 8:45 am]

BILLING CODE 6730-01-P